DEPARTMENT OF JUSTICE

Notice of Lodging of Consent Decree Under Clean Air Act

Under 28 CFR 50.7, notice is hereby given that on September 30, 2003, the United States lodged a proposed consent Decree between the United States, the Mississippi Commission on Environmental Quality, the West Virginia Department of Environmental Protection, Ergon Refining, Inc. (“ERI”), and Ergon-West Virginia, Inc. (“EWV”) with the United States District Court for the South District of Mississippi in the case of United States, et al. v. Ergon Refining, Inc. et al., Civil Action No. 3:03CV1140WSU.

In a complaint that was filed simultaneously with the Consent Decree, the United States sought injunctive relief and penalties against ERI and EWV pursuant to section 113(b) of the Clean Air Act, 42 U.S.C. 7413(b), for alleged Clean Air Act violations at ERI's refinery located in Vicksburg, Mississippi, and EWV's refinery located in Newell, West Virginia.

Under the settlement, ERI and EWV will implement innovative pollution control technologies to greatly reduce emissions of nitrogen oxides (“NO2”), sulfur dioxide (“SO2”), particulate matter (“PM”), carbon monoxide (“CO”), and benzene from refinery process units and will adopt facility-wide enhanced monitoring and fugitive emission control programs. ERI and EWV have estimated that this injunctive relief will cost the companies approximately $8,315,000. ERI will pay a civil penalty of $138,000, which the State of Mississippi will share, and spend more than $80,000 on a supplemental environmental project to make modifications to and purchase equipment for the Vicksburg Volunteer Fire Department. EWV will pay a civil penalty of $111,6000, which the State of West Virginia will share, and spend more than $167,000 on supplemental environmental projects by upgrading controls on existing drains, replacing four conventional burners with ultra low NOX burners, and purchasing equipment for the Newell Volunteer Fire Department. ERI also will perform additional injunctive relief by installing a new oil water separator tank for the wastewater treatment system totaling approximately $1.5 million. The States of Mississippi and West Virginia will join in this settlement as signatories to the Consent Decree. In addition, EPA and EWV have entered into an administrative Consent Agreement and Final Order in which EWV has agreed to pay a $155,000 civil penalty to EPA, and an Administrative Compliance Order by consent in which EWV has agreed to install certain wastewater treatment controls. The administrative orders are incorporated by reference and fully enforceable under the Consent Decree.

The Department of Justice will receive for a period of thirty (30) days from the date of this publication comments relating to the Consent Decree. Comments should be addressed to the Assistant Attorney General, Environment and Natural Resources Division, P.O. Box 7611, U.S. Department of Justice, Washington, DC 20044-7611, and should refer to United States, et al., v. Ergon Refining, Inc. et al., D.J. Ref. 90-5-2-1-06064/3.

The Consent Decree may be examined at U.S. EPA Region 4, Sam Nunn Atlanta Federal Center, 61 Forsyth Street, SW., Atlanta, Georgia 30303-3104, and U.S. EPA Region 3, 1650 Arch Street, Philadelphia, Pennsylvania, 19103-2029. During the public comment period, the Consent decree may be viewed on the following Department of Justice Web site, http://www.usdoj.gov/enrd/open.html. a copy of the Consent Decree may also be obtained by mail from the Consent Decree Library, P.O. Box 7611, U.S. Department of Justice, Washington, DC 20044-7611, or by faxing or emailing a request to Tonia Fleetwood (tonia.fleetwood@usdoj.gov), fax no. (202) 514-0097, phone confirmation number (202) 514-1547. In requesting a copy from the Consent Decree Library, please enclose a check in the amount of $35.50 (25 cents per page reproduction cost) payable to the U.S. Treasury.

Robert D. Brook,
Assistant Chief, Environmental Enforcement Section, Environment and Natural Resources Division.

[FR Doc. 03-26247 Filed 10-16-03; 8:45 am]

BILLING CODE 4410-15-M